ENVIRONMENTAL PROTECTION AGENCY

40 CFR Part 52

[EPA-R07-OAR-2019-0707; FRL-8684-03-R7]

Air Plan Approval; Missouri; Open Burning; Withdrawal

AGENCY: Environmental Protection Agency (EPA).

ACTION: Withdrawal of proposed rule.

SUMMARY: The Environmental Protection Agency (EPA) is withdrawing its proposed rule to approve Missouri's revisions to the state's open burning rule, as published in the Federal Register on January 13, 2020. By a letter to the EPA dated May 26, 2021, Missouri withdrew its request for approval of revisions to this rule in the state implementation plan (SIP).

DATES: The proposed rule published on January 13, 2020 (85 FR 1794) is withdrawn as of July 26, 2021.

FOR FURTHER INFORMATION CONTACT: Wendy Vit, Environmental Protection Agency, Region 7 Office, Air Quality Planning Branch, 11201 Renner Boulevard, Lenexa, Kansas 66219 at (913) 551-7697, or by email at vit.wendy@epa.gov.

SUPPLEMENTARY INFORMATION: Missouri has withdrawn the rule as stated in the letter dated May 26, 2021, which is included in the docket for this action. Because the EPA received adverse comments on its proposed rule, the EPA is publishing this notice of withdrawal to notify commenters that it no longer intends to take final action on the revisions proposed to 10 CSR 10-6.045 on January 13, 2020 at 85 FR 1794.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: July 19, 2021.
Edward H. Chu,
Acting Regional Administrator, Region 7.

[FR Doc. 2021-15736 Filed 7-23-21; 8:45 am]

BILLING CODE 6560-50-P